DEPARTMENT OF HEALTH AND HUMAN SERVICES

Centers for Disease Control and Prevention

National Institute for Occupational Safety and Health Advisory Board on Radiation and Worker Health

In accordance with section 10(a)(2) of the Federal Advisory Committee Act (Pub. L. 92-463), the Centers for Disease Control and Prevention (CDC) announces the following committee meeting:

Name: Advisory Board on Radiation and Worker Health (ABRWH), National Institute for Occupational Safety and Health (NIOSH), Subcommittee for Dose Reconstruction and Site Profile Reviews.

Subcommittee Meeting Times and Dates: 12 p.m.-4:30 p.m., March 24, 2005. 8:30 a.m.-11:30 a.m., March 25, 2005.

Place: Hilton Cincinnati Netherlands Plaza, 35 West Fifth Street, Cincinnati, Ohio 45202-2899, telephone 513/421-9100, fax 513/651-3195.

Status: Open to the public, limited only by the space available. The meeting space accommodates approximately 35 people.

Background: The ABRWH was established under the Energy Employees Occupational Illness Compensation Program Act (EEOICPA) of 2000 to advise the President on a variety of policy and technical functions required to implement and effectively manage the new compensation program. Key functions of the Board include providing advice on the development of probability of causation guidelines which have been promulgated by HHS as a final rule, advice on methods of dose reconstruction which have also been promulgated by HHS as a final rule, advice on the scientific validity and quality of dose estimation and reconstruction efforts being performed for purposes of the compensation program, and advice on petitions to add classes of workers to the Special Exposure Cohort (SEC).

In December 2000 the President delegated responsibility for funding, staffing, and operating the Board to HHS, which subsequently delegated this authority to the CDC. NIOSH implements this responsibility for CDC. The charter was issued on August 3, 2001, and renewed on August 3, 2003. The Subcommittee for Dose Reconstruction and Site Profile Reviews was established on June 21, 2004, to facilitate the work of the Board by assisting in the performance of the Board's statutory requirements, and does so by advising and reporting to the Board according to the requirements of HHS and the establishment memo.

Purpose: This board is charged with: (a) Providing advice to the Secretary, HHS, on the development of guidelines under Executive Order 13179; (b) providing advice to the Secretary, HHS, on the scientific validity and quality of dose reconstruction efforts performed for this Program; and (c) upon request by the Secretary, HHS, advising the Secretary on whether there is a class of employees at any Department of Energy facility who were exposed to radiation but for whom it is not feasible to estimate their radiation dose, and on whether there is reasonable likelihood that such radiation doses may have endangered the health of members of this class.

Matters To Be Discussed: The agenda for this meeting will focus on Scoring Methodology, Wrap Up of the First 20 Dose Reconstructions, the Upcoming Set of 18 Dose Reconstruction Reviews Status, and the Bethlehem Steel Site Profile.

The agenda is subject to change as priorities dictate.

Due to programmatic issues that had to be resolved, the Federal Register notice is being published less than fifteen days before the date of the meeting.

In the event an individual cannot attend, written comments may be submitted. Any written comments received will be provided at the meeting and should be submitted to the contact person below well in advance of the meeting.

Contact Person for More Information: Lewis V. Wade, Ph.D., Executive Secretary, ABRWH, NIOSH, CDC, 200 Independence Avenue, SW., Room 715-H, Hubert Humphrey Building, P12 Washington, DC 20201-0004, telephone 202/401-2192, fax 202/260-4464.

The Director, Management Analysis and Services Office, has been delegated the authority to sign Federal Register notices pertaining to announcements of meetings and other committee management activities for both CDC and the Agency for Toxic Substances and Disease Registry.

Dated: March 7, 2005.
Alvin Hall,
Director, Management Analysis and Services Office, Centers for Disease Control and Prevention.

[FR Doc. 05-5282 Filed 3-16-05; 8:45 am]

BILLING CODE 4163-19-P